DEPARTMENT OF HEALTH AND HUMAN SERVICES

[Document Identifier: OS-0990—new]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before December 3, 2018.

ADDRESSES: Submit your comments to Sherrette.Funn@hhs.gov or by calling (202) 795-7714.

FOR FURTHER INFORMATION CONTACT: When submitting comments or requesting information, please include the document identifier 0990-New-60D and project title for reference, to Sherrette.funn@hhs.gov, or call the Reports Clearance Officer, (202) 795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Cohort 3 Teen Pregnancy Prevention (TPP) Program Performance Measures.

Type of Collection: New.

OMB No. 0990-NEW—Office of Adolescent Health, OS.

Abstract: The Office of Adolescent Health Requests a new clearance for the collection of performance measures from the cohort 3 Teen Pregnancy Prevention (TPP) grant recipients, anticipated to be awarded in September 2018. OAH released a funding announcement to support Phase 1 of a third cohort of TPP grantees in the spring of 2018, subject to the availability of funding, with awards expected to be made in September 2018. Phase 1 cohort 3 TPP grants shall be issued in for an anticipated 2 year period of performance. A subset of successful Phase 1 grantees will be selected for Phase 2 grants. A 3 year clearance is requested for this request. TPP phase 1 grant recipients will be expected to report data twice each year.

Annualized Burden Hour Table
Forms (if necessary) | Respondents (if necessary) | Number of respondents | Number of responses per respondents | Average burden per response | Total burden hours
TPP Grantees, Performance Measures Form | Grant Recipients | 60 | 2 | 7 | 840
TPP Participants Pre/Post Test Compilation | Grant Recipients | 60 | 2 | 3 | 360
TPP Participants Pre/Post Test | Participants in TPP-grant funded projects | 45,000 | 2 | 5/60 | 7,500
Total |  |  | 2 |  | 8,700

Terry Clark,
Office of the Secretary, Asst. Paperwork Reduction Act Reports Clearance Office.

[FR Doc. 2018-21402 Filed 10-1-18; 8:45 am]

BILLING CODE 4168-11-P